DEPARTMENT OF TRANSPORTATION

Pipeline and Hazardous Materials Safety Administration

[Docket No. PHMSA-2017-0161]

Pipeline Safety: Request for Special Permit; Tennessee Gas Pipeline Company, LLC (TGP)

AGENCY: Pipeline and Hazardous Materials Safety Administration (PHMSA); U.S. Department of Transportation (DOT).

ACTION: Notice.

SUMMARY: PHMSA is publishing this notice to solicit public comments on a request for an extension to a special permit segment to be incorporated into special permit PHMSA-2017-0161 submitted by Tennessee Gas Pipeline Company, LLC (TGP), a subsidiary of Kinder Morgan, Inc. TGP is seeking relief from compliance with certain requirements in the Federal pipeline safety regulations. PHMSA has proposed conditions to ensure that the special permit is not inconsistent with pipeline safety. At the conclusion of the 30-day comment period, PHMSA will review the comments received from this notice as part of its evaluation to grant or deny the special permit request.

DATES: Submit any comments regarding this special permit request by December 15, 2025.

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information: Confidential Business Information (CBI) is commercial or financial information that is both customarily and treated as private by its owner. Under the Freedom of Information Act (FOIA) (5 United States Code (U.S.C.) § 552), CBI is exempt from public disclosure. If your comments responsive to this notice contain commercial or financial information that is customarily treated as private, that you treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Lee Cooper by telephone at 202-913-3171, or by email at lee.cooper@dot.gov.

Technical: Gabrielle St. Pierre by telephone at 907-202-0029, or by email at gabrielle.st.pierre@dot.gov.

SUPPLEMENTARY INFORMATION: On August 20, 2025, PHMSA received a special permit request from Tennessee Gas Pipeline Company, LLC (TGP), a subsidiary of Kinder Morgan, Inc., seeking an extension to a special permit segment to be incorporated into special permit PHMSA-2017-0161. The segment extension request is a part of the active permit's Special Permit Inspection Area 1. Special permit PHMSA-2017-0161 allows TGP to deviate from the Federal pipeline safety regulations in 49 CFR 192.611(a) and 192.619(a), where a gas transmission pipeline segment has undergone a change from a Class 1 to a Class 3 location.

Special permit PHMSA-2017-0161 is active and was granted on August 11, 2022 and is effective until August 11, 2032 for three special permit segments, which include 5,545 feet (approximately 1.05 miles) of the TGP natural gas transmission pipeline system located in Kanawha County, West Virginia. The segment extension has been requested for 673 feet (approximately 0.13 miles). If granted, the special permit segments would total 6,218 feet (approximately 1.18 miles).

The special permit segments, including the requested modifications, are detailed in updated Attachment A—Segment Integrity Information. Proposed modifications due to this request are as follows:

SPS No. | Status | County, State | Outside diameter (inches) | Line name | Length (feet) | Year installed | Maximum allowable operating pressure (pounds per square inch gauge)
452 | Active Segment | Kanawha, WV | 20 | 100-1 | 1,177 | 1984 | 936
| Extension | Kanawha, WV | 20 | 100-1 | 1,850 | 1984 | 936

Upon receipt of this request, PHMSA reviewed the final environmental assessment (FEA) and finds that the expansion of the proposed special permit would not result in significant impacts to the human environment. Furthermore, the existing FEA and finding of no significant impact remain adequate pursuant to the National Environmental Policy Act of 1969, as amended (42 U.S.C. 4321 et seq.). No further environmental assessment is required for this proposed extension.

TGP's request for an extension to a special permit segment, active special permit with conditions, and associated environmental document are available for review and public comment in Docket No. PHMSA-2017-0161. PHMSA invites interested persons to review and submit comments in the docket on this request for modification of the special permit. Please submit comments on any potential safety, environmental, and other relevant considerations implicated by the special permit request. Comments may include relevant data.

Before issuing a decision on the special permit request, PHMSA will evaluate all comments received on or before the comment closing date. PHMSA will consider each relevant comment it receives in making its decision to grant or deny this special permit request.

Issued in Washington, DC, on November 7, 2025, under authority delegated in 49 CFR 1.97.
Linda Daugherty,
Acting Associate Administrator for Pipeline Safety.

[FR Doc. 2025-19870 Filed 11-12-25; 8:45 am]

BILLING CODE 4910-60-P